EXPORT-IMPORT BANK OF THE UNITED STATES

Sunshine Act Meeting

ACTION: Notice of a Partially Open Meeting of the Board of Directors of the Export-Import Bank of the United States.

Time And Place: Thursday, December 2, 2010 at 9:30 a.m. The meeting will be held at Ex-Im Bank in Room 1143, 811 Vermont Avenue, NW., Washington, DC 20571.

Open Agenda Item: Item No. 1: Ex-Im Bank Advisory Committee for 2011.

Public Participation: The meeting will be open to public observation for Item No. 1 only.

FURTHER INFORMATION: For further information, contact: Office of the Secretary, 811 Vermont Avenue NW., Washington, DC 20571 (Tele. No. 202-565-3957)

Jonathan J. Cordone,
Senior Vice President and General Counsel.

[FR Doc. 2010-29918 Filed 11-26-10; 8:45 am]

BILLING CODE 6690-01-M